DEPARTMENT OF THE INTERIOR

Fish and Wildlife Service

50 CFR Part 32

RIN 1018-AU61

2006-2007 Refuge-Specific Hunting and Sport Fishing Regulations

Correction

In proposed rule document 06-6318 beginning on page 41864 in the issue of Monday, July 24, 2006, make the following correction:

On page 41866, in the first column, under the heading Request for Comments, in paragraph 1., in the second and third lines

“refuge system policy comments@fws.gov”

should read

“refugesystempolicycomments@fws.gov”.

[FR Doc. C6-6318 Filed 8-10-06; 8:45 am]

BILLING CODE 1505-01-D

NATIONAL ARCHIVES AND RECORDS ADMINISTRATION

Office of the Federal Register

Rules and Regulations; Correction

Correction

The correction that appeared on page 44353, Friday, August 4, 2006 is corrected to read as follows:

In the Rules and Regulations section of the Tuesday, August 1, 2006 edition of the Federal Register, make the following corrections to these page numbers:

1. Page 83346 should read page 43346.

2. Page 83356 should read page 43356.

3. Page 83358 should read page 43358.

[FR Doc. C6-99998 Filed 8-10-06; 8:45 am]

BILLING CODE 1505-01-D